DEPARTMENT OF VETERANS AFFAIRS

Cost-of-Living Adjustments for Service-Connected Benefits

AGENCY: Department of Veterans Affairs (VA).

ACTION: Notice.

SUMMARY: As required by the Veterans' Compensation Cost-of-Living Adjustment Act of 2021, VA is hereby giving notice of adjustments in certain benefit rates. These adjustments affect the compensation program.

DATES: These adjustments became effective on December 1, 2021.

FOR FURTHER INFORMATION CONTACT: Jacqueline Imboden, Policy Staff, Compensation Service, Veterans Benefits Administration, 810 Vermont Avenue NW, Washington, DC 20420, 202-461-9700. This is not a toll-free telephone number.

SUPPLEMENTARY INFORMATION: Section 2 of Public Law 117-45 provides for an increase in each of the rates in sections 1114, 1115(1) and 1162 of title 38, U.S.C. VA is required to increase these benefit rates by the same percentage as increases in the benefit amounts payable under title II of the Social Security Act. The increased rates are required to be published in the Federal Register.

The Social Security Administration has announced that there will be a 5.9 percent cost-of-living increase in Social Security benefits for 2022. Therefore, applying the same percentage, the following rates for VA's compensation program became effective on December 1, 2021:

Disability evaluation percent | Monthly rate
Disability Compensation
[38 U.S.C. 1114]
10 | $152.64
20 | 301.74
30 | 467.39
40 | 673.28
50 | 958.44
60 | 1,214.03
70 | 1,529.95
80 | 1,778.43
90 | 1,998.52
100 | 3,332.06
(38 U.S.C. 1114(k) through (t)):
38 U.S.C. 1114(k) | $118.33
38 U.S.C. 1114(l) | 4,146.13
38 U.S.C. 1114(m) | 4,575.68
38 U.S.C. 1114(n) | 5,205.17
38 U.S.C. 1114(o) | 5,818.09
38 U.S.C. 1114(p) | 5,818.09
38 U.S.C. 1114(r) | 2,495.52; 3,717.82
38 U.S.C. 1114(s) | 3,729.64
38 U.S.C. 1114(t) | 3,717.82
Additional Compensation for Dependents
[38 U.S.C. 1115(1)]
38 U.S.C. 1115(1):
38 U.S.C. 1115(1)(A) | $185.78
38 U.S.C. 1115(1)(B) | 321.83; 92.31
38 U.S.C. 1115(1)(C) | 124.24; 92.31
38 U.S.C. 1115(1)(D) | 149.10
38 U.S.C. 1115(1)(E) | 356.16
38 U.S.C. 1115(1)(F) | 298.18
Clothing Allowance
[38 U.S.C. 1162]
$891.00 per year

Signing Authority

Denis McDonough, Secretary of Veterans Affairs, approved this document on December 7, 2021, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2021-27043 Filed 12-13-21; 8:45 am]

BILLING CODE 8320-01-P